NUCLEAR REGULATORY COMMISSION

[Docket No. NRC-2012-0047]

Agency Information Collection Activities: Emergency Clearance Submission for the Office of Management and Budget (OMB) Review; Comment Request

AGENCY: Nuclear Regulatory Commission.

ACTION: Notice of pending NRC action to submit an information collection request for emergency review to the Office of Management and Budget (OMB) and solicitation of public comment.

SUMMARY: The U.S. Nuclear Regulatory Commission (NRC) invites public comment about our intention to request emergency review and OMB approval of the information collection that is summarized below. We are required to publish this notice in the Federal Register under the provisions of the Paperwork Reduction Act of 1995 (44 U.S.C. chapter 35). In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR 1320.13. This is necessary to ensure compliance with requirements in Section 402 of the Consolidated Appropriations Act, 2012, “* * *” We cannot reasonably comply with the normal clearance procedures because the use of normal clearance procedures is reasonably likely to prevent or disrupt the collection of information as stated in 5 CFR 1320.13(a)(2)(iii).

Information pertaining to the requirement to be submitted:

1. Type of submission, new, revision, or extension: New.

2. The title of the information collection: Request for Information Pursuant to 10 CFR 50.54(f) Regarding Recommendations 2.1, 2.3 and 93, of the Near-Term Task Force Review of Insights from the Fukushima Dai-ichi Event.

2. Current OMB approval number: Not applicable.

3. How often the collection is required: One-time, on occasion.

4. Who is required or asked to report: 104 power reactor licensees.

5. The number of annual respondents: 104.

6. The number of hours needed annually to complete the requirement or request: The NRC estimates that it will require 13,300 hours per power reactor to respond to the information collection request, for a total of 1,383,200 hours (or 461,067 hours annualized).

7. Abstract: Following the accident at the Fukushima Dai-ichi nuclear power plant resulting from the March 11, 2011, Great Tōhoku Earthquake and subsequent tsunami, the NRC established the Near-Term Task Force (NTTF). The NTTF Charter, dated March 30, 2011, tasked the NTTF with conducting a systematic and methodical review of NRC processes and regulations and determining if the agency should make additional improvements to its regulatory system. Ultimately, a comprehensive set of recommendations contained in a report to the Commission (dated July 12, 2011, SECY-11-0093 (Agencywide Documents Access and Management System (ADAMS) Accession No. ML111861807)) was developed using a decision rationale built around the defense-in-depth concept in which each level of defense-in-depth (namely prevention, mitigation, and emergency preparedness (EP)) is critically evaluated for its completeness and effectiveness in performing its safety function.

On August 19, 2011, following issuance of the NTTF report, the Commission directed the NRC staff in staff requirements memorandum (SRM) for SECY 11-0093 (ADAMS Access No. ML112310021), in part, to determine which of the recommendations could and should be implemented without unnecessary delay.

On September 9, 2011, the NRC staff provided SECY-11-0124 to the Commission (ADAMS Accession No. ML11245A158). The document identified those actions from the NTTF report that should be taken without unnecessary delay. As part of the October 18, 2011, SRM for SECY-11-0124 (ADAMS Accession No. ML112911571), the Commission approved the staff's proposed actions, including the development of three information requests under 10 CFR 50.54(f). The information collected would be used to support the NRC staff's evaluation of whether further regulatory action was needed in the areas of seismic and flooding design, and emergency preparedness.

On December 23, 2011, the Consolidated Appropriations Act, Public Law 112-074, was signed into law. Section 402 of the law also requires a reevaluation of licensees' design basis for external hazards, and expands the scope to include other external events.

The NRC has concluded that it requires the information requested to verify the compliance with design bases at nuclear power plants and to determine if additional regulatory actions are appropriate. Therefore, the NRC will issue requests for information, pursuant to Section 182(a) of the Atomic Energy Act of 1954, as amended, and 10 CFR 50.54(f). Addressees to the NRC information request will be required to confirm receipt of the request for information within 30 days. Each attachment to the request for information contains a topic-specific schedule for response. The NRC is requesting OMB review and approval of this collection by March 6, 2012, with a 180-day approval period.

Throughout the development of these letters, the NRC has solicited stakeholder input including feedback on the burden. The NRC made draft versions of the letters publically available and hosted seven public meetings to gather stakeholder feedback. Further, the Nuclear Energy Institute provided feedback to the NRC on the content of the letters, including the associated burden. The NRC considered all feedback in generating its burden estimate.

Submit, by March 5, 2012, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied for a fee publicly available documents, including the final supporting statement, at the NRC's Public Document Room, Room O1-F21, One White Flint North, 11555 Rockville Pike, Rockville, Maryland 20852. OMB clearance requests are available at the NRC Web site: http://www.nrc.gov/public_involve/doc_comment/omb/index.html. The document will be available on the NRC home page site for 60 days after the signature date of this notice.

Comments and questions should be directed to the OMB reviewer listed below by March 5, 2012. Comments received after this date will be considered if it is practical to do so, but assurance of consideration cannot be given to comments received after this date.

Chad Whiteman, Desk Officer, Office of Information and Regulatory Affairs (3150-XXXX), NEOB-10202, Office of Management and Budget, Washington, DC 20503.

Comments can also be emailed to Chad_S_Whiteman@omb.eop.gov or submitted by telephone at (202) 395-4718.

For additional information on the information collections, contact G. Edward Miller, Project Manager, Projects Management Branch, Japan Lessons Learned Project Directorate, Office of Nuclear Reactor Regulation, U.S. Nuclear Regulatory Commission, Rockville, MD 20852. Telephone: (301) 415-2481; fax number: (301) 415-2444; email: Edward.Miller@nrc.gov.

The NRC Clearance Officer is Tremaine Donnell, (301) 415-6258. Questions about the information collection requirements may be directed to the NRC Clearance Officer, Tremaine Donnell (T-5 F53), U.S. Nuclear Regulatory Commission, Washington, DC 20555-0001, by telephone at 301-415-6258, or by email to INFOCOLLECTS.Resource@NRC.GOV.

Dated at Rockville, Maryland, this 21st day of February 2012.
For the Nuclear Regulatory Commission.
Tremaine Donnell,
NRC Clearance Officer, Office of Information Services.

[FR Doc. 2012-4360 Filed 2-23-12; 8:45 am]

BILLING CODE 7590-01-P